DEPARTMENT OF HOMELAND SECURITY

Coast Guard

33 CFR Part 110

[Docket Number USCG-2020-0216]

Anchorage Ground; Cape Fear River Approach, North Carolina

AGENCY: Coast Guard, DHS.

ACTION: Notification of inquiry; request for comments.

SUMMARY: The Coast Guard is considering establishing an anchorage ground offshore in the approaches to the Cape Fear River, NC, and removing, relocating or otherwise modifying the existing Lockwoods Folly Inlet explosives anchorage ground. We are considering establishing an offshore anchorage ground in response to requests suggesting an anchorage ground is necessary to accommodate current and future vessel traffic, improve navigation safety, and because traditional anchorage areas may be impacted by offshore renewable energy development. Our consideration of changing or removing the explosives anchorage grounds is based on growth in both the size and draft of vessels that call on the Port of Wilmington and Military Ocean Terminal Sunny Point. We invite your comments on whether we should initiate a rulemaking to address these issues or maintain the status quo.

DATES: Your comments and related material must reach the Coast Guard on or before July 7, 2020.

ADDRESSES: You may submit comments identified by docket number USCG-2020-0216 using the Federal portal at https://www.regulations.gov. See the “Public Participation and Request for Comments” portion of the SUPPLEMENTARY INFORMATION section for further instructions on submitting comments.

FOR FURTHER INFORMATION CONTACT: If you have questions about this notice of inquiry, call or email Marine Science Technician First Class (MST1) Matthew Tyson, Sector North Carolina, U.S. Coast Guard; telephone (910) 772-2221, email Matthew.I.Tyson@uscg.mil; or Mr. Jerry Barnes, Waterways Management Branch, Fifth Coast Guard District, U.S. Coast Guard; telephone (757) 398-6230, email Jerry.R.Barnes@uscg.mil.

SUPPLEMENTARY INFORMATION:

I. Table of Abbreviations

BOEM Bureau of Ocean Energy Management

CFR Code of Federal Regulations

DHS Department of Homeland Security

FR Federal Register

NM Nautical Miles

U.S.C. United States Code

WGS84 World Geodetic System 84

II. Background and Purpose

The Coast Guard is considering amending its regulations to establish an anchorage ground offshore in the approaches to the Cape Fear River, NC, and disestablish, relocate or otherwise modify the existing Lockwoods Folly Inlet explosives anchorage. Our authority to define and establish anchorage grounds comes from 33 U.S.C 471.

The Cape Fear River supports a diverse marine transportation system which includes Military Ocean Terminal Sunny Point, North Carolina State Port of Wilmington, and several oil terminals and bulk-handling facilities for cement, asphalt products, molasses, liquid chemicals, sulfur, fertilizers and liquid sugar. Military Ocean Terminal Sunny Point is a Department of Defense facility that stores and ships ammunition, dangerous cargo and explosives for United States forces worldwide.

A federal navigation project provides for a channel 44 feet deep from the ocean to a point just south of Southport, NC, and 42 feet to the Lower Anchorage Basin and Turning Basin at Wilmington, NC. In support of continued port growth and growth in both size and volume of vessel traffic, the U.S. Army Corps of Engineers is considering the need for major channel depth, width, and alignment changes. These include deepening the existing federal navigation channel to the Port of Wilmington, extending the ocean entrance channel farther offshore, and widening channels in the Cape Fear River where needed.¹

¹ 84 FR 48132, Sept. 12, 2019 (U.S. Army Corps of Engineers “Notice of Intent to Prepare a Draft Environmental Impact Statement (DEIS) for the Wilmington Harbor Navigation Improvement Project Integrated Feasibility Study and Environmental Report, New Hanover and Brunswick Counties, NC”).

At the same time, the demand for offshore wind energy is increasing. Plummeting costs, technological advancements, increasing demand and great economic potential have combined to make offshore wind a promising avenue for adding to a diversified national energy portfolio. In 2018, the Bureau of Ocean Energy Management (BOEM) developed and sought feedback on a Proposed Path Forward for Future Offshore Renewable Energy Leasing on the Atlantic OCS (83 FR 14881, April 6, 2018). Offshore the Carolinas, BOEM has identified several wind energy lease and call areas and intends to work with the states of North Carolina and South Carolina using a regional model to plan and analyze these areas for potential future offshore wind leases.²

² See https://www.boem.gov/renewable-energy/state-activities/south-carolina-activities and https://www.boem.gov/renewable-energy/state-activities/north-carolina-activities.

Traditionally, vessels awaiting entrance to the Cape Fear River anchor outside the traffic separation scheme west of the sea buoy (Cape Fear River Entrance Lighted Whistle Buoy CF). The Coast Guard has concerns that as wind energy areas are developed and electrical export cables installed, vessel traffic may be displaced or funneled into smaller areas, and areas traditionally used for anchoring may be impacted. Establishing an adequate and dedicated offshore anchorage will preserve areas traditionally used for anchoring and alleviate potential hazardous conditions of vessels anchoring in the common approaches to the Cape Fear River.

Notionally, the Cape Fear River Approach anchorage ground would be located west of the pilot boarding area, near existing traffic lanes, and in naturally deep water with charted depths between 40 and 52 feet. The anchorage ground as contemplated is located approximately 8 nautical miles (NM) southwest of the Oak Island Light and includes the waters bounded by a line connecting the following points:

Latitude | Longitude
33°47′59.09″ N | 78°17′49.00″ W.
33°47′59.09″ N | 78°06′24.74″ W.
33°46′01.22″ N | 78°06′24.74″ W.
33°46′01.22″ N | 78°17′49.00″ W.
(DATUM: WGS84)

We are considering amending our regulations to establish this notional anchorage. You may find an illustration of the anchorage in the docket where indicated under ADDRESSES. Additionally, the notional anchorage is available on the Mid-Atlantic Ocean Data Portal at http://portal.midatlanticocean.org/visualize/. See “USCG Proposed Areas and Studies” under the “Maritime” portion of the Data Layers section.

On January 18, 1969, regulations for the Lockwoods Folly Inlet explosives anchorage were published (34 FR 839) outlining the area as an anchorage reserved for the exclusive use of vessels carrying explosives.³ The anchorage is located within 3 NM from shore and in water with charted depths between 32 and 37 feet. The Coast Guard is concerned that the anchorage may not meet the needs of safe navigation due to the increased drafts of vessels that call on the Port of Wilmington and Military Ocean Terminal Sunny Point, and a better location may be possible in the interest of navigation and public safety.⁴

³ 33 CFR 110.170.

⁴ Sec. 301 of the Coast Guard Authorization Act of 2010 (Pub. L. 111-281) amended 33 U.S.C. 471 and extended the Coast Guard's authority to establish anchorage grounds for vessels from 3 NM to 12 NM.

III. Information Requested

We seek your comments on whether we should consider a proposed rulemaking to establish a regulated anchorage ground offshore in the approaches to the Cape Fear River, NC. In particular, the Coast Guard requests your input to determine to what extent the notional anchorage ground would accommodate current and future vessel traffic, improve navigation safety, and facilitate continued growth of Cape Fear River's ports and facilities, offshore renewable energy development and associated economic activity; or if the status quo should be maintained, or other actions should be considered.

Additionally, we seek your comments on whether we should consider a proposed rulemaking to disestablish, relocate or otherwise modify the Lockwoods Folly Inlet explosives anchorage. In particular, the Coast Guard requests your input to determine if there remains a need for an explosive anchorage in this area, and if so, to what extent and for what purpose; if a reduction in size or a shift in location of the anchorage would meet current and anticipated industry needs; or if other options should be considered, such as designating a portion of the notional Cape Fear River Approach anchorage for the exclusive use of vessels carrying explosives.

IV. Public Participation and Request for Comments

We encourage you to submit comments through the Federal portal at https://www.regulations.gov. If your material cannot be submitted using https://www.regulations.gov, contact the person in the FOR FURTHER INFORMATION CONTACT section of this document for alternate instructions. In your submission, please include the docket number for this notice of inquiry and provide a reason for each suggestion or recommendation.

We accept anonymous comments. All comments received will be posted without change to https://www.regulations.gov and will include any personal information you have provided. For more about privacy and submissions in response to this document, see DHS's eRulemaking System of Records notice (85 FR 14226, March 11, 2020).

Documents mentioned as being available in the docket, and all public comments, will be in our online docket at https://www.regulations.gov and can be viewed by following that website's instructions.

Dated: April 29, 2020.
Keith M. Smith,
Rear Admiral, U.S. Coast Guard, Commander, Fifth Coast Guard District.

[FR Doc. 2020-09604 Filed 5-7-20; 8:45 am]

BILLING CODE 9110-04-P